DEPARTMENT OF HOUSING AND URBAN DEVELOPMENT

[Docket No. FR-5117-N-104]

Notice of Submission of Proposed ; Information Collection to OMB; Public Housing 5-Year and Annual PHA Plan; Correction

AGENCY: Office of the Chief Information Officer, HUD.

ACTION: Notice, Correction.

SUMMARY: This notice was previously published on November 20, 2007, and is being republished to extend the comment period until December 31, 2007. The proposed information collection requirement described below has been submitted to the Office of Management and Budget (OMB) for review, as required by the Paperwork Reduction Act. The Department is soliciting public comments on the subject proposal.

PHA's are required to submit annual and 5-Year Plans to HUD as required by section 5A of the United States Housing Act of 1937 (42 U.S.C.1437c-1). The purpose of the plan is to provide a framework for local accountability and a means by which public housing residents, participants in the tenant-based assistance program, and other members of the public may locate basic PHA policies, rules and requirements concerning the PHA's operations, programs and services.

DATES: Comments Due Date: December 31, 2007.

ADDRESSES: Interested persons are invited to submit comments regarding this proposal. Comments should refer to the proposal by name and/or OMB approval Number (2577-0226) and should be sent to: HUD Desk Officer, Office of Management and Budget, New Executive Office Building, Washington, DC 20503; fax: 202-395-6974.

FOR FURTHER INFORMATION CONTACT: Lillian Deitzer, Departmental PRA Officer, QDAM, Department of Housing and Urban Development, 451 Seventh Street, SW., Washington, DC 20410; e-mail Lillian_L._Deitzer@HUD.gov or telephone (202) 402-8048. This is not a toll-free number. Copies of available documents submitted to OMB may be obtained from Ms. Deitzer.

SUPPLEMENTARY INFORMATION: On November 20, 2007 (72 FR 9348), this notice informed the public that the U.S. Department of Housing and Urban Development (HUD) would be submitting the proposed information collection to OMB for review, as required by the Paperwork Reduction Act of 1995 (44 U.S.C. Chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses. Accordingly, FR Doc. E7-22700, published on November 20 2007, is being republished to extend the comment period until December 31, 2007.

This Notice Also Lists the Following Information:

Title of Proposal: Public Housing 5-Year and Annual PHA Plan.

OMB Approval Number: 2577-0226.

Form Numbers: HUD 50075, HUD 50075.1, HUD 50075.2, HUD 50077, HUD 50070, HUD 50071, SF LLL, and SF LLL-A.

Description of the Need for the Information and Its Proposed Use: PHA's are required to submit annual and 5-Year Plans to HUD as required by section 5A of the United States Housing Act of 1937 (42 U.S.C.1437c-1). The purpose of the plan is to provide a framework for local accountability and a means by which public housing residents, participants in the tenant-based assistance program, and other members of the public may locate basic PHA policies, rules and requirements concerning the PHA's operations, programs and services.

Frequency of Submission: Annually.

| Number of respondents | Annual responses | × | Hours per response | = | Burden hours
Reporting Burden: | 4,139 | 1 |  | 12.68 |  | 52,512

Total Estimated Burden Hours: 52,512.

Status: Revision of a currently approved information collection.

Authority: Section 3507 of the Paperwork Reduction Act of 1995, 44 U.S.C. 35, as amended.

Dated: December 7, 2007.
Lillian L. Deitzer,
Departmental Paperwork Reduction Act Officer, Office of the Chief Information Officer.

[FR Doc. E7-24106 Filed 12-12-07; 8:45 am]

BILLING CODE 4210-67-P